PENSION BENEFIT GUARANTY CORPORATION

29 CFR Parts 4000, 4233, and 4903

RIN 1212-AB55

Change of Address; Technical Amendments

AGENCY: Pension Benefit Guaranty Corporation.

ACTION: Final rule.

SUMMARY: The Pension Benefit Guaranty Corporation (PBGC) relocated on August 1, 2022, and is amending its regulations that reference its former street address to reflect the new street address.

DATES: This rule is effective September 22, 2022.

FOR FURTHER INFORMATION CONTACT: Karen Levin (levin.karen@pbgc.gov), Attorney, Regulatory Affairs Division, Office of the General Counsel, Pension Benefit Guaranty Corporation, 445 12th Street SW, Washington, DC 20024-2101; 202-229-3559. If you are deaf or hard of hearing or have a speech disability, please dial 7-1-1 to access telecommunications relay services.

SUPPLEMENTARY INFORMATION: Through July 31, 2022, the Pension Benefit Guaranty Corporation (PBGC) resided and accepted mail at 1200 K Street NW, Washington, DC, 20005-4026. On August 1, 2022, PBGC officially relocated to a new street address: 445 12th Street SW, Washington, DC 20024-2101.

PBGC is promulgating these amendments without advance notice or an opportunity for public comment because they fall under the “good cause” exemption of the Administrative Procedure Act at 5 U.S.C. 553(b)(3)(B). PBGC finds that notice and comment are unnecessary because these amendments are merely technical; they effect no substantive changes to any rule. For the same reason, these amendments fall within the “good cause” exception to the delayed effective date provisions of the Administrative Procedure Act and the Congressional Review Act at 5 U.S.C. 553(d)(3), 808(2). Moreover, because these amendments are exempt from the notice and comment procedure of the Administrative Procedure Act under 5 U.S.C. 553(b), PBGC is not required to conduct a regulatory flexibility analysis under 5 U.S.C. 603 or 604.¹

¹ See 5 U.S.C. 601(2), 604(a).

PBGC has determined that this action is not a “significant regulatory action” under the criteria set forth in Executive Order 12866.

List of Subjects

29 CFR Part 4000

Administrative practice and procedure, Pension insurance.

29 CFR Part 4233

Employee benefit plans, Pension insurance, Reporting and recordkeeping requirements.

29 CFR Part 4903

Claims.

For the reasons given above, PBGC amends 29 CFR parts 4000, 4233, and 4903 as follows.

PART 4000—FILING, ISSUANCE, COMPUTATION OF TIME, AND RECORD RETENTION

1. The authority citation for part 4000 continues to read as follows:

Authority: 29 U.S.C. 1083(k), 1302(b)(3).

§ 4000.3 [Amended]

2. Amend § 4000.3(c)(3) by:

a. Removing “1200 K Street, NW, Washington, DC. 20005-4026;” and adding in its place “445 12th Street SW, Washington, DC 20024-2101;”

b. Removing “(TTY/TDD users may call the Federal relay service toll-free at 1-800-877-8339 and ask to be connected to the appropriate number.)” and adding in its place “(If you are deaf or hard of hearing or have a speech disability, please dial 7-1-1 to access telecommunications relay services.)”.

PART 4233—PARTITIONS OF ELIGIBLE MULTIEMPLOYER PLANS

3. The authority citation for part 4233 continues to read as follows:

Authority: 29 U.S.C. 1302(b)(3), 1413.

§ 4233.11 [Amended]

4. Amend § 4233.11 by removing “1200 K Street NW, Washington, DC 20005-4026,” wherever it appears, and adding in its place “445 12th Street SW, Washington, DC 20024-2101,”.

Appendix A to Part 4233 [Amended]

5. Amend appendix A to part 4233 by removing “1200 K Street NW, Washington, DC 20005-4026” wherever it appears, and adding in its place “445 12th Street SW, Washington, DC 20024-2101”.

PART 4903—DEBT COLLECTION

6. The authority citation for part 4903 continues to read as follows:

Authority: 5 U.S.C. 5514; 29 U.S.C.1302(b); 31 U.S.C. 3701-3719, 3720A; 5 CFR part 550, subpart K; 31 CFR part 285; 31 CFR parts 900-904.

§ 4903.21 [Amended]

7. Amend § 4903.21(c) by removing “1200 K Street NW, Washington, DC 20005.” and adding in its place “445 12th Street SW, Washington, DC 20024-2101.”.

Issued in Washington, DC, by
Gordon Hartogensis,
Director, Pension Benefit Guaranty Corporation.

[FR Doc. 2022-19842 Filed 9-21-22; 8:45 am]

BILLING CODE 7709-02-P